DEPARTMENT OF COMMERCE

Foreign-Trade Zones Board

[B-10-2013]

Foreign-Trade Zone 84—Houston, TX Application for Expansion

An application has been submitted to the Foreign-Trade Zones Board (the Board) by the Port of Houston Authority, grantee of FTZ 84, requesting authority to expand FTZ 84 to include a site in Brazos County, Texas. The application was submitted pursuant to the provisions of the Foreign-Trade Zones Act, as amended (19 U.S.C. 81a-81u), and the regulations of the Board (15 CFR part 400). It was formally docketed on January 31, 2013.

FTZ 84 was approved on July 15, 1983 (Board Order 214, 48 FR 34792, 8/1/83). The zone was expanded on December 24, 1991 (Board Order 551, 57 FR 42, 1/2/92), on December 23, 1993 (Board Order 670, 59 FR 61, 1/3/94), on August 24, 2000 (Board Order 1115, 65 FR 54197, 9/7/00), on March 21, 2003 (Board Order 1271, 68 FR 15431, 3/31/03), on May 14, 2003 (Board Order 1277, 68 FR 27987, 5/22/03), and on April 24, 2009 (Board Order 1611, 74 FR 27777-27778, 6/11/2009).

The general-purpose zone currently consists of 24 sites (2,752.13 acres) at port facilities, industrial parks and warehouse facilities in Houston and the Harris County area. The sites—which are in Houston unless otherwise stated—are as follows: Site 1 (421 acres)—Houston Ship Channel Turning Basin, Clinton Drive at Highway 610 East Loop; Site 2 (97 acres)—Houston Ship Channel (Bulk Materials Handling Plant), north bank between Greens Bayou and Penn City Road; Site 3 (99 acres)—Barbours Cut Turning Basin, Highway 146 at Highway 225; Site 4 (4 acres)—Cargoways Logistics, 1201 Hahlo Street; Site 5 (8 acres)—Timco Scrap Processing, 6747 Avenue W; Site 6 (73 acres)—Odfjell Terminals, 12211 Port Road; Site 7 (126 acres)—Jacintoport Terminal, Houston Ship Channel,16398 Jacintoport Blvd.; Site 8 (162 acres)—Central Green Business Park, 16638 Air Center Boulevard; Site 9 (72 acres)—Manchester Terminal Corporation, 10000 Manchester; Site 10 (14 acres)—13609 Industrial Road, within the Greens Port Industrial Park along the Houston Ship Channel; Site 11 (269 acres)—Oiltanking, Inc.,15602 Jacintoport Boulevard; Site 12 (146 acres)—Kinder Morgan Liquids Terminal LLC, Clinton Drive at Panther Creek and North Witter Street at Bayou Street; Site 13 (18 acres)—Exel Logistics, Inc., 8833 City Park Loop Street; Site 14 (22 acres)—George Bush Intercontinental Airport, Fuel Storage Road, Houston jet fuel storage and distribution system; Site 15 (196 acres)—Magellan Midstream Partners, liquid bulk facility, 12901 American Petroleum Road, Galena Park, Harris County; Site 16 (72 acres)—Katoen Natie Gulf Coast Warehousing Complex, Miller Road Cutoff and U.S. Highway 225, Harris County; Site 17 (172 acres total, 2 parcels, sunset 5/31/2014)—within the Highway 225 Industrial Development: Underwood Industrial Park (162 acres), located at 2820 East 13th Street, Deer Park, and Battleground Business Park (10 acres), located at the corner of Porter Road and Old Underwood Road, La Porte; Site 18 (106 acres, sunset 5/31/2014)—Bay Area Business Park, located at Red Bluff Road and Bay Area Boulevard, Pasadena; Site 19 (190 acres, sunset 5/31/2014)—Republic Distribution Center, located on the corner of Red Bluff Road and Choate Road, Pasadena; Site 20 (299 acres, sunset 5/31/2014)—Port Crossing Industrial Park, located along McCabe Road and State Highway 146, La Porte; Site 22 (146 acres, sunset 5/31/2014)—Port of Houston Authority's Beltway 8 Tract, located at the corner of East Belt Drive and Jacintoport Boulevard; Site 23 (16.94 acres)—Katoen Natie Gulf Coast, Inc., 102 Old Underwood Road and 1100 Underwood Drive, Deer Park; Site 24 (11.32 acres, sunset 5/31/2014)—Kuehne + Nagel, Inc., 15450 Diplomatic Plaza Drive; and, Site 25 (11.87 acres, expires 12/31/2014)—Emerson Process Management Valve Automation, Inc., 19200 Northwest Freeway. (Note: Site 21 was removed from the zone project in December 2012 (S-142-2012).)

The applicant is requesting authority to expand the zone to include the following site: Proposed Site 26 (1,091.22 acres)—Texas Triangle Park, located at State Highway 6 and Louis E. Mikulin Road, Brazos County. No specific production authority is being requested at this time. Such requests would be made to the Board on a case-by-case basis.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is April 8, 2013. Rebuttal comments in response to material submitted during the foregoing period may be submitted during the subsequent 15-day period to April 22, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or at (202) 482-2350.

Dated: January 31, 2013.
Andrew McGilvray,
Executive Secretary.

[FR Doc. 2013-02641 Filed 2-5-13; 8:45 am]

BILLING CODE P